DEPARTMENT OF AGRICULTURE

Natural Resources Conservation Service

[Docket No. NRCS-2014-0012]

Notice of Availability of the Finding of No Significant Impact (FONSI) for the Upper Kanab Creek Watershed Vegetation Management Project

AGENCY: Natural Resources Conservation Service (NRCS), USDA.

ACTION: Notice of Availability of the Finding of No Significant Impact.

SUMMARY: This notice announces the availability of NRCS's adoption, under provisions provided for in 40 CFR 1506.3, of an Environmental Assessment (EA) prepared by the Bureau of Land Management (BLM) for the Upper Kanab Creek Watershed Vegetation Management Project, dated April 2012.

ADDRESSES: Copies of the EA and FONSI are available upon request from the Natural Resources Conservation Service, Wallace F. Bennett Federal Building, 125 South State Street, Room 4010, Salt Lake City, Utah 84138.

FOR FURTHER INFORMATION CONTACT: Gary McRae, Resource Conservationist, Natural Resources Conservation Service, Wallace F. Bennett Federal Building, 125 South State Street, Room 4010, Salt Lake City, Utah 84138; telephone: (801) 524-4599.

SUPPLEMENTARY INFORMATION: NRCS prepared the FONSI in compliance with the National Environmental Policy Act after reviewing the EA and concurring with the analysis and findings therein, and the finding that the proposed project modifications described in the EA will not result in significant impacts to the environment.

The project area encompasses the upper portion of the Kanab, Arizona-Utah 4th level, 8-digit HUC (#15010003). The project is needed to rehabilitate vegetation communities.

Signed this 8th day of August 2014, in Salt Lake City, Utah.
David C. Brown,
State Conservationist.

[FR Doc. 2014-19519 Filed 8-15-14; 8:45 am]

BILLING CODE 3410-16-P